NUCLEAR REGULATORY COMMISSION

Advisory Committee on Reactor Safeguards 635th Meeting

Cancellation of the June 8-10, 2016, 635th Advisory Committee on Reactor Safeguards Meeting

The 635th Advisory Committee on Reactor Safeguards Meeting scheduled for June 8-10, 2016, has been cancelled.

The notice of this meeting was previously published in the Federal Register on Tuesday, May 24, 2016, (81 FR 32792).

Information regarding this meeting can be obtained by contacting Quynh Nguyen, Designated Federal Official (DFO) (Telephone 301-415-5844 or Email: Quynh.Nguyen@nrc.gov) between 7:30 a.m. and 5:15 p.m. (EST)).

Dated at Rockville, Maryland, this 24th day of May, 2016.
For the Nuclear Regulatory Commission.
Andrew L. Bates,
Advisory Committee Management Officer.

[FR Doc. 2016-12737 Filed 5-27-16; 8:45 am]

BILLING CODE 7590-01-P